DEPARTMENT OF DEFENSE

Department of the Navy

Notice of Change of Public Meeting Location for the Draft Legislative Environmental Impact Statement for the Proposed Renewal of the Chocolate Mountain Aerial Gunnery Range Land Withdrawal, California

AGENCY: Department of the Navy, DoD.

ACTION: Notice.

SUMMARY: The location of one of the four public meetings on the Draft LEIS is being changed. The October 25, 2012 public meeting will now be held at the Oceanside City Council Chambers and Lobby, 330 North Coast Highway, Oceanside, CA. Each of the four public meetings will be conducted in an open house meeting format from 5:30 p.m. to 8 p.m. A Notice of Public Meetings (NOPMs) for the Draft LEIS was published in the Federal Register on Friday, August 31, 2012 (Federal Register/Vol. 77, No. 170, page 53189).

FOR FURTHER INFORMATION CONTACT: CMAGR LEIS Project Manager (Attn: Ms. Kelly Finn), NAVFAC Southwest, 1220 Pacific Highway, Building 1 Central IPT, San Diego, CA 92132-5190; phone 619-532-4452. Additional supplementary information regarding the Chocolate Mountain Aerial Gunnery Range (CMAGR) Draft LEIS is available at www.chocolatemountainrenewal.com.

SUPPLEMENTARY INFORMATION: The Department of the Navy, in cooperation with the Bureau of Land Management and Bureau of Reclamation, has prepared and filed with the U.S. Environmental Protection Agency a Draft Legislative Environmental Impact Statement (LEIS) that evaluates the potential environmental consequences that may result from renewing the withdrawal of approximately 228,465 acres of public land for continued use as part of the CMAGR in Imperial and Riverside counties, California. A Notice of Availability and NOPMs for the Draft LEIS were published in the Federal Register on Friday, August 31, 2012 (Federal Register/Vol. 77, No. 170, pages 53189 and 53198).

Each of the four public meetings will be conducted in an open house meeting format. The public meetings will be held from 5:30 p.m. to 8 p.m. on the following dates and at the following locations:

1. October 22, 2012 at the Yuma County Library, 2951 S. 21st Drive, Rooms B-C, Yuma, AZ.

2. October 23, 2012 at the Southwest High School, 2001 Ocotillo Dr., El Centro, CA.

3. October 24, 2012 at the Mizell Senior Center, 480 South Sunrise Way, Palm Springs, CA.

4. October 25, 2012 at the City Council Chambers and Lobby, 330 North Coast Highway, Oceanside, CA.

Please submit requests for special assistance, sign language interpretation for the hearing impaired, or other auxiliary aids needed at the public meetings to the LEIS Project Manager at least five business days before the meeting date.

Attendees will be able to submit written comments at the public meetings. A court reporter will be available to accept oral comments. Equal weight will be given to oral and written statements. Comments on the Draft LEIS may be submitted by: (1) Attending one of the public hearings and providing oral or written comments, (2) completing the comment form on the project's public Web site at www.chocolatemountainrenewal.com/Comment/Default.aspx, or (3) by sending a letter to the CMAGR LEIS Project Manager (Attn: Ms. Kelly Finn), NAVFAC Southwest, 1220 Pacific Highway, Building 1 Central IPT, San Diego, CA 92132-5190. All comments must be postmarked or electronically dated no later than November 30, 2012 to ensure they become part of the public record. All statements (oral transcription and written) submitted during the public review period will become part of the public record on the Draft LEIS and will be addressed in the Final LEIS. Before including your address, telephone number, email address, or other personal identifying information in your comment, please be aware that your entire comment—including any personal identifying information—may be made publicly available at any time. Although requests can be made to withhold personal identifying information from public review, it may not be possible to keep this information from disclosure.

Dated: September 28, 2012.
D.G. Zimmerman,
Lieutenant Commander, Office of the Judge Advocate General, U.S. Navy, Federal Register Liaison Officer.

[FR Doc. 2012-24749 Filed 10-5-12; 8:45 am]

BILLING CODE 3810-FF-P